SUSQUEHANNA RIVER BASIN COMMISSION

Actions Taken at June 16, 2022 Meeting

AGENCY: Susquehanna River Basin Commission.

ACTION: Notice.

SUMMARY: As part of its regular business meeting held on June 16, 2022, Baltimore, Maryland, the Commission approved the applications of certain water resources projects, and took additional actions, as set forth in the Supplementary Information below.

DATES: June 16, 2022.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also acted upon at the business meeting: (1) election of Commission officers for FY2023; (2) reconciliation of FY2023 budget; (3) a motion related to the Conowingo Watershed Implementation Plan; (4) ratification of contracts/grants; (5) revision of Commission By-laws; (6) proposed Water Resources Program for 2022-2024; and (7) three regulatory program waiver requests.

Project Applications Approved

1. Project Sponsor and Facility: Blackhill Energy LLC (Susquehanna River), Ulster Township, Bradford County, Pa. Application for surface water withdrawal of up to 3.024 mgd (peak day).

2. Project Sponsor and Facility: Chesapeake Appalachia, L.L.C. (Susquehanna River), Mehoopany Township, Wyoming County, Pa. Application for renewal of surface water withdrawal of up to 0.999 mgd (peak day) (Docket No. 20170603).

3. Project Sponsor and Facility: Chesapeake Appalachia, L.L.C. (Susquehanna River), Wysox Township, Bradford County, Pa. Application for renewal of surface water withdrawal of up to 0.999 mgd (peak day) (Docket No. 20170604).

4. Project Sponsor and Facility: Chesapeake Appalachia, L.L.C. (Wyalusing Creek), Rush Township, Susquehanna County, Pa. Application for renewal of surface water withdrawal of up to 0.715 mgd (peak day) (Docket No. 20170605).

5. Project Sponsor: Corning Incorporated. Project Facility: Houghton Park, City of Corning, Steuben County, N.Y. Application for renewal of groundwater withdrawal of up to 1.080 mgd (30-day average) from Well 5 (Docket No. 19970503).

6. Project Sponsor and Facility: East Cocalico Township Authority, East Cocalico, West Cocalico, and Brecknock Townships, Lancaster County, Pa. Applications for renewal of groundwater withdrawals (30-day averages) of up to 0.081 mgd from Well 11, 1.150 mgd from Well F, and 1.395 mgd from Well M (Docket Nos. 19920702 and 20070606).

7. Project Sponsor: Golf Acres, Inc. Project Facility: Chapel Hill Golf Course (Little Muddy Creek), Spring Township, Berks County, Pa. Applications for surface water withdrawal of up to 0.180 mgd (peak day) and consumptive use of up to 0.162 mgd (peak day).

8. Project Sponsor and Facility: Hydrage, LLC, East Union and Mahanoy Townships, Schuylkill County, Pa. Application for renewal of consumptive use of up to 0.200 mgd (peak day) (Docket No. 20070603).

9. Project Sponsor and Facility: Lykens Valley Golf Course & Resort Inc (unnamed tributary to Wiconisco Creek), Upper Paxton Township, Dauphin County, Pa. Applications for renewal of surface water withdrawal of up to 0.200 mgd (peak day) and consumptive use of up to 0.200 mgd (peak day) (Docket No. 20080614).

10. Project Sponsor: New Enterprise Stone & Lime Co., Inc. Project Facility: Tyrone Quarry, Warriors Mark Township, Huntingdon County, Pa. Application for groundwater withdrawal of up to 0.173 mgd (30-day average) from Well MW-36B and modification to increase consumptive use (peak day) by an additional 0.238 mgd, for a total consumptive use of up to 0.532 mgd (Docket No. 20031205).

11. Project Sponsor and Facility: Repsol Oil & Gas USA, LLC (Towanda Creek), Franklin Township, Bradford County, Pa. Application for renewal of surface water withdrawal of up to 1.000 mgd (peak day) (Docket No. 20170611).

12. Project Sponsor and Facility: SWN Production Company, LLC (Susquehanna River), Oakland Township, Susquehanna County, Pa. Application for surface water withdrawal of up to 3.000 mgd (peak day).

13. Project Sponsor and Facility: Town of Kirkwood, Broome County, N.Y. Application for renewal of groundwater withdrawal of up to 0.841 mgd (30-day average) from Well 3 (Docket No. 19920304).

14. Project Sponsor and Facility: Village of Canisteo, Steuben County, N.Y. Application for renewal of groundwater withdrawal of up to 0.499 mgd (30-day average) from Well 2 (Docket No. 19950902).

15. Project Sponsor: Vulcan Construction Materials, LLC. Project Facility: Havre de Grace Quarry (Susquehanna River), Havre de Grace District, Harford County, Md. Applications for renewal of surface water withdrawal of up to 0.234 mgd (peak day) and consumptive use of up to 0.823 mgd (peak day) (Docket No. 19920105).

Project Scheduled for Action Involving a Diversion

16. Project Sponsor and Facility: Patrick Hoopes Trucking, Inc., Eulalia Township, Potter County, Pa. Application for an into-basin diversion from the Ohio River Basin of up to 1.000 mgd (peak day) from the Allegheny River.

Commission Initiated Project Approval Modification

17. Project Sponsor and Facility: Lebanon Valley College, Annville and North Annville Townships, Lebanon County, Pa. Conforming the grandfathered amount with the forthcoming determination for groundwater withdrawals (30-day averages) of up to 0.019 mgd from the Football Well, 0.044 mgd from the Baseball Well, and 0.042 mgd from the West (Soccer) Well, as well as modify monitoring and reporting requirements for the project (Docket No. 20030409).

Projects Tabled

18. Project Sponsor and Facility: Municipal Authority of the Township of East Hempfield dba Hempfield Water Authority, East Hempfield Township, Lancaster County, Pa. Applications for renewal of groundwater withdrawals (30-day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

19. Project Sponsor and Facility: Shrewsbury Borough, Shrewsbury Township and Shrewsbury Borough, York County, Pa. Applications for renewal of groundwater withdrawals (30-day averages) of up to 0.099 mgd from the Meadow Well and 0.180 mgd from the Village Well (Docket Nos. 19890501 and 19900105).

20. Project Sponsor: SUEZ Water Pennsylvania Inc. Project Facility: Grantham Operation, Upper Allen Township, Cumberland County, Pa. Application for renewal of groundwater withdrawal of up to 0.395 mgd (30-day average) from Well 2 (Docket No. 19901104).

(Authority: Public Law 91-575, 84 Stat. 1509 et seq., 18 CFR parts 806, 807, and 808.)

Dated: June 17, 2022.
Jason E. Oyler,
General Counsel and Secretary to the Commission.

[FR Doc. 2022-13434 Filed 6-22-22; 8:45 am]

BILLING CODE 7040-01-P